DEPARTMENT OF TRANSPORTATION

Federal Railroad Administration

[Docket No. FRA-2000-7257; Notice No. 32]

Railroad Safety Advisory Committee (“RSAC”); Working Group Activity Update

AGENCY: Federal Railroad Administration (FRA), Department of Transportation (DOT).

ACTION: Announcement of Railroad Safety Advisory Committee (RSAC) Working Group Activities.

SUMMARY: FRA is updating its announcement of RSAC's working group activities to reflect their current status. For additional details on completed activities see prior working group activity notices (68 FR 25677).

FOR FURTHER INFORMATION CONTACT: Patricia Butera, RSAC Coordinator, FRA, 1120 Vermont Avenue, NW., Mailstop 25, Washington, DC 20590, (202) 493-6212 or Grady Cothen, Deputy Associate Administrator for Safety Standards and Program Development, FRA, 1120 Vermont Avenue, NW., Mailstop 25, Washington, DC 20590, (202) 493-6302.

SUPPLEMENTARY INFORMATION: This notice serves to update FRA's last announcement of working group activities and status reports of December 1, 2003, (68 FR 54777). The twenty-second full Committee meeting was held December 2, 2003. The twenty-third meeting is scheduled for April 27, 2004, at the Washington Plaza Hotel.

Since its first meeting in April of 1996, the RSAC has accepted eighteen tasks. Status for each of the tasks is provided below:

Open Tasks

Task 96-4—Reviewing the appropriateness of the agency's current policy regarding the applicability of existing and proposed regulations to tourist, excursion, scenic, and historic railroads. This Task was accepted on April 2, 1996, and a Working Group was established. The Working Group monitored the steam locomotive regulations task. Planned future activities involve the review of other regulations for possible adaptation to the safety needs of tourist and historic railroads. Contact: Grady Cothen (202) 493-6302.

Task 97-1—Developing crashworthiness specifications to promote the integrity of the locomotive cab in accidents resulting from collisions. This Task was accepted on June 24, 1997. On April 14, 2004, RSAC reached consensus on the NPRM. FRA is finalizing the accompanying regulatory analysis so it can be forwarded for review and clearance within the Executive Branch. The NPRM is a new standard to increase the crashworthiness of conventional wide- and narrow-nose locomotives and codifies requirements for monocoque locomotives. Contact: Charles Bielitz (202) 493-6314.

Task 97-2—Evaluating the extent to which environmental, sanitary, and other working conditions in locomotive cabs affect the crew's health and the safe operation of locomotives, proposing standards where appropriate. This Task was accepted June 24, 1997.

(Sanitation) (Completed)

(Noise exposure) The Cab Working Conditions Working Group met most recently in Chicago, November 12-14, 2002. A tentative consensus was reached on the draft rule text. The Working Group approved the NPRM. On June 27, 2003, the full RSAC gave consensus by ballot on NPRM. The NPRM is in review at the Office of Management and Budget (OMB).

(Cab Temperature) (Completed)

Note: Additional related topics may be further considered by the Working Group in the future, including effect of vibrations and crew emergency egress. Contact: Jeffrey Horn (202) 493-6283.

Task 97-3—Developing event recorder data survivability standards. This Task was accepted on June 24, 1997. On November 12, 2003, the RSAC gave consensus by ballot on the NPRM. The NPRM is currently in review at OMB with a target date for issuance of April 30, 2004. The National Transportation Safety Board noted the loss of data from event recorders in several accidents due to fire, water and mechanical damage. NTSB requested performance standards for data survivability. Contact: Edward Pritchard (202) 493-6247.

Task 97-4 and Task 97-5—Defining Positive Train Control (PTC) functionalities, describing available technologies, evaluating costs and benefits of potential systems, and considering implementation opportunities and challenges, including demonstration and deployment.

Task 97-6—Revising various regulations to address the safety implications of processor-based signal and train control technologies, including communications-based operating systems. These three tasks were accepted on September 30, 1997, and assigned to a single Working Group.

(Report to the Administrator.) A Data and Implementation Task Force, formed to address issues such as assessment of costs and benefits and technical readiness, completed a report on the future of PTC systems. The report was accepted as RSAC's Report to the Administrator at the September 8, 1999, meeting. FRA enclosed the report with a letter Report to Congress signed May 17, 2000.

(Regulatory development.) The Standards Task Force, formed to develop PTC standards assisted in developing draft recommendations for performance-based standards for processor-based signal and train control systems. The NPRM was approved by consensus at the full RSAC meeting held on September 14, 2000. The NPRM was published in the Federal Register on August 10, 2001. A meeting of the Working Group was held December 4-6, 2001, in San Antonio, Texas to formulate recommendations for resolution of issues raised in the public comments. Agreement was reached on most issues raised in the comments. A meeting was held May 14-15, 2002, in Colorado Springs, Colorado at which the Working Group approved creation of teams to further explore issues related to the “base case” issue. Briefing of the full RSAC on the “base case” issue was completed on May 29, 2002, and consultations continued within the working group. The full Working Group met October 22-23, 2002, and again March 4-6, 2003. Resolution of the remaining issues was considered by the Working Group at the July 8-9, 2003, meeting. The Working Group achieved consensus on recommendations for resolution of a portion of the issues in the proceeding. The full Committee considered the Working Group recommendations by mail ballots scheduled for return on August 14, 2003; however, a majority of the members voting did not concur. FRA has proceeded with preparation of a final rule, which is currently being reviewed in the Executive Branch. (Other program development activities.) Task forces on Human Factors and the Axiomatic Safety-Critical Assessment Process (risk assessment) continue to work toward development of a risk assessment toolkit, and the Working Group continues to meet to monitor the implementation of PTC and related projects. Contact: Grady Cothen (202) 493-6302.

Task 00-1—Determining the need to amend regulations protecting persons who work on, under, or between rolling equipment and persons applying, removing or inspecting rear end marking devices (Blue Signal Protection). The Working Group held its first meeting on October 16-18, 2000, and six meetings have been held since then. The Working Group significantly narrowed the issues, but did not reach full consensus on recommendations for regulatory action. The Administrator announced at the full RSAC meeting on December 2, 2003, that the task is withdrawn and the issue may be pursued at a later date. Contact: Doug Taylor (202) 493-6255.

Task 03-01 Passenger Safety. This Task was accepted May 20, 2003, and a Working Group was established. The Working Group held its first meeting September 9-10, 2003. At the second meeting held November 6-7, 2003, four task forces were established: mechanical; crashworthiness/glazing; emergency preparedness; and Track/Vehicle Interaction. Task forces to meet and report on activities for Working Group consideration at third meeting scheduled for May 11-12, 2004.

Completed Tasks

Task 96-1—(Completed) Revising the Freight Power Brake Regulations.

Task 96-2—(Completed) Reviewing and recommending revisions to the Track Safety Standards (49 CFR Part 213).

Task 96-3—(Completed) Reviewing and recommending revisions to the Radio Standards and Procedures (49 CFR Part 220).

Task 96-5—(Completed) Reviewing and recommending revisions to Steam Locomotive Inspection Standards (49 CFR Part 230).

Task 96-6—(Completed) Reviewing and recommending revisions to miscellaneous aspects of the regulations addressing Locomotive Engineer Certification (49 CFR Part 240).

Task 96-7—(Completed) Developing Roadway Maintenance Machines (On-Track Equipment) Safety Standards.

Task 96-8—(Completed) This Planning Task evaluated the need for action responsive to recommendations contained in a report to Congress entitled, Locomotive Crashworthiness & Working Conditions.

Task 97-7—(Completed) Determining damages qualifying an event as a reportable train accident.

Task 01-1—(Completed) Developing conformity of FRA's regulations for accident/incident reporting (49 CFR Part 225) to revised regulations of the Occupational Safety and Health Administration (OSHA), U.S. Department of Labor, and to make appropriate revisions to the FRA Guide for Preparing Accident/Incident Reports (Reporting Guide).

Please refer to the notice published in the Federal Register on March 11, 1996, (61 FR 9740) for more information about the RSAC.

Issued in Washington, DC on April 26, 2004.
Grady C. Cothen,
Acting Associate Administrator for Safety.

[FR Doc. 04-9930 Filed 4-30-04; 8:45 am]

BILLING CODE 4910-06-P